DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App., the United States Department of Agriculture announces a meeting of the National Agricultural Research, Extension, Education, and Economics Advisory Board.

SUPPLEMENTARY INFORMATION: The National Agricultural Research, Extension, Education, and Economics Advisory Board, which represents 30 constituent categories, as specified in section 802 of the Federal Agriculture Improvement and Reform Act of 1996 (Pub. L. No. 104-127), has scheduled a National Agricultural Research, Extension, Education, and Economics Advisory Board meeting March 19-21, 2001.

On Monday, March 19 through Wednesday March 21, 2001, the Advisory Board will hold a general meeting in Washington, DC. A general business session of the Advisory Board will be held on March 19, from 9:00 a.m. until 12:00 noon, and will include a morning session to hear views on agricultural research from Congressional members and staff, a session on the ARS Peer Review Process for Intramural National Programs. The afternoon session will feature representatives from the office of the Under Secretary for Research, Education, and Economics (REE) and its agencies, representatives and other outside invitees who represent a variety of interests regarding funding and policy strategies for research and education. The meeting will adjourn at 5:00 p.m. for the day.

A National Stakeholder Symposium is scheduled for March 20, 2001, from 9:00 a.m. until 5:00 p.m., with the theme of “Reinventing Agriculture in the 21st Century through Research and Education.” The objective of the Stakeholder Symposium is to hear diverse views from stakeholders across the country on how we can best shape 21st century American agriculture through research and education and to initiate dialogue that will help shape future Farm Bill legislation as it relates to research and education opportunities. On Wednesday, March 21, 2001, the Advisory Board will focus on future efforts of the Board in addressing the transition in the Administration, and include discussions on increasing funding support for agricultural research and education. They will be articulating their findings from the meeting and the previous day's focus sessions into formal recommendations for the Secretary of Agriculture. They will also start focusing on their agenda for the coming year, which will include establishment of a rapport with the new administration on communicating high priority USDA research and education opportunities. Limited time will be provided for comments from the public as noted in a forthcoming agenda. Also written comments will be accepted for public record up to 2 weeks following the Board meeting. The final agenda will be available to the public prior to the meeting.

DATES:

March 19—9:00 a.m. to Noon—General Business Session

March 19—1:00 p.m. to 5:00 p.m.—Special Presentations

March 20—8:00 a.m. to 5:00 p.m.—National Stakeholder Symposium

March 20—12-1:00 p.m.—Working Lunch w/Speaker

March 20—5:30 p.m. to 7:30 p.m.—Working Reception

March 21—8:00 a.m. to Noon—Focus Session Wrap-up and Discussion

Place: DoubleTree Park Terrace Hotel, 1515 Rhode Island Avenue, NW., Washington, DC.; Terrace Ballroom and State Room.

Type of Meeting: Open to the Public.

Comments: The public may file written comments before or after the meeting with the contact person. All statements will become a part of the official records of the National Agricultural Research, Extension, Education, and Economics Advisory Board and will be kept on file for public review in the Office of the Advisory Board; Research, Education, and Economics; U.S. Department of Agriculture; Washington, D.C. 20250-2255.

FOR FURTHER INFORMATION CONTACT: Deborah Hanfman, Executive Director, National Agricultural Research, Extension, Education, and Economics Advisory Board, Research; Education, and Economics Advisory Board Office, Room 344-A Jamie L. Whitten Building; U.S. Department of Agriculture; STOP: 2255, 1400 Independence Avenue, SW., Washington, DC 20250-2255; Telephone: 202-720-3684; Fax: 202-720-6199; or e-mail: mhumphreys@reeusda.gov.

Done at Washington, DC this 26th day of February 2001.
Dawn Riley,
Acting Deputy Under Secretary, Research, Education, and Economics.

[FR Doc. 01-5820 Filed 3-7-01; 8:45 am]

BILLING CODE 3410-22-P